DEPARTMENT OF ENERGY

Federal Energy Regulatory Commission

18 CFR Chapter I

[Docket No. RM01-5-000]

Electronic Tariff Filings

March 14, 2001.

AGENCY: Federal Energy Regulatory Commission.

ACTION: Notice of inquiry and informational conference.

SUMMARY: The Federal Energy Regulatory Commission is inviting comments on its regulatory requirements regarding the format for electronic tariffs filed at the Commission in order to improve the efficiency of the tariff filing process. The Commission also is announcing an informational conference by Commission staff with interested members of the public and industry in order to demonstrate the use of its current electronic natural gas tariff system (FASTR) and an example of an Extensible Markup language (XML) tagged format. The informational conference will also provide a venue for questions, comments, and clarifications regarding the matters raised in this NOI.

DATES: The Informational Conference will be held on April 24, 2001. Comments on this NOI are due on June 25, 2001.

ADDRESSES: Federal Energy Regulatory Commission, 888 First Street, NE., Washington DC 20426.

FOR FURTHER INFORMATION CONTACT: Barbara Bourque, Office of Markets, Tariffs, and Rates, Federal Energy Regulatory Commission, 888 First Street, NE., Washington, DC 20426; telephone (202) 208-2338.

SUPPLEMENTARY INFORMATION:

I. Introduction

The Federal Energy Regulatory Commission (Commission) is inviting comments on its regulatory requirements regarding the format for electronic tariffs¹ filed at the Commission,² in order to improve the efficiency of the tariff filing process. Electronic tariffs will reduce the burden and expense associated with paper tariffs, and help make tariff information available to the public in a faster and more efficient manner. In the long run, this effort should reduce the costs for the regulated entities.

¹ For purposes of this Notice of Inquiry (NOI), the term “tariff” includes tariffs, rate schedules, service agreements, and conditions of service filed with the Commission.

² The entities covered by this NOI are those that submit tariff filings with the Commission pursuant to the Natural Gas Act, the Natural Gas Policy Act, the Outer Continental Shelf Lands Act, the Federal Power Act, the Interstate Commerce Act, and any other relevant statute. It also includes entities that may make voluntary tariff filings, such as reciprocity filings pursuant to Order No. 888.

The Commission is inviting comments on selected issues related to the filing of electronic tariffs in order to develop a notice of proposed rulemaking, and thereafter a final rule, with respect to the filing of electronic tariffs. Specifically, the Commission is seeking comments on how tariffs can most efficiently be filed and maintained electronically, and whether the format and structure of tariffs can be changed so they provide the most useful information to the Commission and the public. The Commission also is establishing a staff informational conference, to assist industry participants in the preparation of their comments on this NOI. At this conference the Commission staff will demonstrate possible methods of electronic tariff filing, and issues related to electronic tariff filing can be discussed. The conference will be held on April 24, 2001. The Commission anticipates that there will be additional opportunities for the industry to participate in the development of the technical specifications prior to implementation of the electronic filing requirement.

II. Background

In order to increase the efficiency with which it carries out its program responsibilities, the Commission has been implementing measures to use information technology to reduce the amount of paperwork required in its proceedings.³ This NOI is a step in the process of replacing paper tariffs with electronic tariffs by instituting a process that will lead to a final rule requiring the filing of tariffs electronically. The Commission advocates the use of the most efficient, cost effective, and accurate technology to obtain the data required for its use and to inform the public.

³ See Electronic Filing of Documents, Order No. 619, 65 FR 57088 (September 21, 2000), FERC Stats. and Regs., Regulations Preambles, ¶ 31,107 (2000).

Both the legislative and executive branches of the Federal government have set as goals the substitution of electronic means of communication and information storage for paper means. For example, the Government Paperwork Elimination Act directs agencies to provide for the optional use and acceptance of electronic documents and signatures, and electronic record-keeping, where practical.⁴ Similarly, Office of Management and Budget Circular A-130 requires agencies to employ electronic information collection techniques by October 2003, where such means will reduce the burden on the public, increase efficiency, reduce costs, and help provide better service.⁵ This requirement applies to all filings, including tariff filings.

⁴ Pub. L. No. 105-277, Sections 1702-1704.

⁵ Circular A-130, Para. 8.a.1(k).

As part of its statutory responsibilities, the Commission requires regulated entities to file tariffs which include, among other things, their respective rates, and terms and conditions of service. The gas and electric tariffs are filed at the Commission in the form of numbered tariff sheets.⁶ When changes to the tariffs are required, the companies file substitute or revised tariff sheets, which supersede the effective tariff sheets on file. The use of tariff sheets as the base unit for the tariff allows for changes to be submitted to the Commission without the necessity of refiling the entire tariff.

⁶ Such tariff pages are frequently identified using the following nomenclature, Third Revised Sheet No. 100, superseding Second Revised Sheet No. 100.

Oil pipeline tariffs do not use the tariff sheet format. The tariff format consists of parts identified by item numbers. Changes are filed either as complete tariffs ⁷ or tariff supplements.⁸ The changes being made by the new filing are identified by the item number, and can be revisions, insertions, and cancellations.

⁷ For example, to indicate that a new tariff had been filed to supersede an existing tariff, the tariff woudl state: FERC No. 46 cancels FERC No. 45.

⁸ For example, a supplement filed to amend a tariff could be identified as: Supplement No. 1 to FERC No. 46.

In 1988, the Commission required natural gas pipelines to file formatted electronic versions of certain tariffs on diskette in addition to filing paper copies.⁹ These regulations, however, retained the tariff page concept. Each pipeline files electronically only the tariff page or pages that are being revised. In Order No. 888, the Commission required that public utilities submit a complete electronic version of all transmission tariffs and service agreements in a word processor format, with the diskette labeled as to the format (including version) used, initially and each time changes are filed.¹⁰ The electronic filing requirements do not extend to oil pipelines, which still are required to file only paper copies of their tariffs.

⁹ See Natural Gas Data Collection System, Order No. 493, 53 FR 15023 (April 27, 1988), FERC Stats. and Regs., Regulations Preambles, ¶ 30,808 (1988), which required the electronic filing of Volume No. 1 tariff sheets (18 CFR 154.4). Statements of conditions of service made pursuant to § 311 of the Natural Gas Policy Act (18 CFR 284.123(e)) and the Outer Continental Shelf Lands Act (18 CFR 330.2(b)) are not required to be filed electronically.

¹⁰ 61 FR 21540 (May 10, 1996), FERC Stats. and Regs. (1991-1996), Regulations Preambles ¶ 31,036 at pp. 31,764-65 (1996).

Since the issuance of the Commission's 1988 rule requiring the filing of electronic versions of gas pipeline tariffs, automated processes and the Internet have become central to the business infrastructure. In recognition of this change and the OMB mandate for electronic filing, the Commission's goal is to establish electronically maintained tariffs, in lieu of paper tariffs. To achieve this goal, the Commission is proposing to require electronic filing of tariffs in a format that will make those tariffs easily accessible over the Internet. Adopting a format which facilitates easy document access via the Internet will make it easy for customers to locate and use the tariff provisions of the companies subject to the Commission's jurisdiction.

A second goal in requiring electronic tariff filing is to make it possible to analyze tariff information through data base analysis. To facilitate data base analysis, the Commission needs to have the tariff in an electronic format that allows the Commission and the public to extract information from the filing. The tariff contains specific information which needs to be captured for analytical purposes. The Commission is soliciting comments from industry on the best way to structure the tariff to facilitate data base management and analysis. Specifically, the Commission is interested in comments on the format which will best facilitate the capture of the necessary data.

In considering electronic filing of tariffs, three issues appear to be presented: (1) Whether the existing “tariff sheet” model for gas and electric tariffs is conducive to electronic filing; (2) whether there should be further standardization of tariff formats across companies and industries; and (3) what electronic format should be used in making the filings.

(1) Sheet vs. Section Based Tariffs

The filing of tariffs electronically may make obsolete the concept of the “tariff sheet” as a basic unit for the gas and electric tariffs. The “tariff sheet” method was designed to permit replacement of individual pages in a tariff book. If tariffs are filed electronically, there will no longer be a need to physically replace pages in a tariff book.

The use of tariff sheet filing has, in the past, caused certain difficulties in finding tariff provisions. In pleadings before the Commission, parties frequently refer to the section that is being changed rather than the tariff page. For example, reference is frequently made to General Terms and Conditions, section 12.1, rather than to the particular tariff page on which this section is located. Under a tariff sheet method, it can become difficult to determine which tariff page is being referenced.

Another problem with the current system is that the company may make multiple filings to change different parts of its tariff language or rates on the same tariff page. While these proposed changes are pending Commission action, the tariff includes multiple versions of the same tariff page, some of which may be effective and others suspended and not yet effective. The tariff book also does not include the redline/strikeout version of the proposed changes. Thus, it is difficult to figure out what the currently effective tariff provisions are. A further problem is that when a paragraph of text is added or deleted from one page of the tariff, there is a domino effect on many of the subsequent pages. Unchanged tariff provisions are pushed forward or backward on the subsequent tariff pages. Thus, the company has to file changes to many subsequent tariff pages because their appearance changes even though there are no substantive changes on those sheets.

Once the Commission moves to electronic filing, there will no longer be a need to replace individual tariff sheets. The Commission, therefore, is contemplating a departure from the current sheet-based system to a section-based system to facilitate electronic filing and administration of tariffs. Under this proposed revision, individual sections of a tariff would be filed, reviewed, and authorized as sections, independent of specific tariff sheet identification. This would permit the electronic filing of the affected sections rather than individual pages and would avoid cascading pagination problems associated with mid-tariff text insertions.

(2) Need for Standardized Tariff Structure

The Commission is seeking comments on whether it would be advisable to develop a standardized tariff structure or layout either for use across all jurisdictional companies, regardless of industry, or whether further standards should be developed for each separate industry. Currently, for the electric industry, Appendix B to Order No. 888-A provides a detailed outline of the structure required for a “pro forma open access transmission tariff.” ¹¹ For the natural gas industry, the “form and composition of tariff” is described in Part 154, Subpart B of the Commission's regulations.¹² For the oil industry, the “form of tariff” is described at § 341.3 of the Commission's regulations.

The Commission is seeking comment on whether it would be worthwhile to develop a standardized layout for tariffs. This would not involve any material changes to the substance of tariffs. Under this approach, all companies would use the same headings (i.e., same outline) for their respective tariffs. The development of a standardized tariff could make it easier for the Commission and the public to compare similar tariff provisions across companies and industries. Also, if changes to the layout or structure of tariffs are to be made, it may be more efficient to make those changes at the same time the utilities are adapting their tariffs for electronic filing.

Therefore, the Commission is requesting comment on whether a standardized tariff outline should be adopted for all three industries, whether such standards should be developed for each industry separately, and whether, if such standards are developed, they should be undertaken at the same time as the development of electronic filing formats. The Commission also is looking at what level of detail should be adopted for a standardized tariff outline in order to accommodate all three industries. Given the disparities in size and complexity of the operations of different companies, and the unique tariff provisions that often arise from these disparities, the Commission is seeking comment on the level of detail that a standardized tariff should have. For example, most tariffs contain sections for general terms and conditions, rates, and rate schedules. The Commission is seeking comment on whether additional categories should be added and what those categories should be.

(3) Format for Electronic Tariff

Another issue is what electronic format should be used for filings to capture the information needed to facilitate data base management. The Commission's goal is to adopt a stable, nonproprietary filing format that is independent of computer operating systems and that can be created using various software applications. The Commission, therefore, does not think that filing in proprietary word processing formats will provide the needed stability, since these formats are constantly being revised and are not easily interchangeable.

¹¹ Promoting Wholesale Competition Through Open Access Non-Discriminatory Transmission Services by Public Utilities; Recovery of Stranded Costs by Public Utilities and Transmitting Utilities, Order No. 888-A, 62 FR 12274 (March 14, 1997), FERC Stats. and Regs., Regulations Preambles ¶ 31,048 (1997).

⁴ See 18 CFR 154.101-154.112.

The current electronic gas tariffs are filed as ASCII ¹³ text files, with header information to identify the information to be included for each tariff change, such as pipeline name, tariff number, and the Commission order to which the filing refers.¹⁴ The Commission, however, has found that filings using this format frequently contain errors that need to be corrected before the filing can be accepted. The Commission is looking for comments on whether more recently developed methods of electronic formatting would provide a more reliable and efficient method of providing for electronically filed tariffs. For example, generic, nonproprietary markup languages, such as Extensible Markup language (XML), are being used as methods of “tagging” information in documents that can then be separately extracted or searched. Tagging identifies specific information contained in a document. For example, each filed tariff change could include tags for the relevant information, such as the utility name, the section being changed, the name for that section, the effective date, and certain sections of tariff text. The tagged information could then be extracted and separately searched.

¹³ ASCII refers to the American Standard Code for Information Interchange, a code for character representation.

¹⁴ A sample gas electronic tariff filing is attached as Appendix A. (The header information is identified using “TF” codes which are read by the Commission's FASTR system and do not appear in the electronic view.)

In order to aid in the understanding of the issues before comments are filed, the Commission staff will hold an informational conference at which the current system for managing gas tariffs (FASTR ¹⁵) and the use of XML will be explained and demonstrated.

¹⁵ FASTR can be accessed on the Commission's website at www.ferc.fed.us/gas/gastariffs/index.htm.

III. Specific Questions For Response by Commenters

1. The Commission seeks comments on whether to adopt a section-based tariff system, as opposed to a sheet-based system, for all utilities. The following are some issues that should be considered.

(a) Would adopting a section-based system be easier to use in referencing tariff provisions? What problems arise by departing from a sheet-based system for electric and gas utilities?

(b) How should a section-based system be organized? Should utilities be able to file any section of the tariff or should there be a uniform unit of tariff text that would need to be filed? For example, should major tariff sections, labeled sub-sections, numbered paragraphs, or some other unit be the smallest section afforded separate authorization status?

2. The Commission also seeks comment on the merits of requiring a restructuring of the internal tariff content so that common provisions would always be found in similarly labeled and organized sections for all companies within a particular industry and/or across industries. The following are some issues that should be addressed.

(a) Would a common tariff structure be beneficial either across industries or within each industry? For example, comments should focus on whether differences in tariff organization create difficulties for customers doing business on several pipelines/transmission companies.

(b) Should the same common tariff structure apply across the gas pipeline, electric public utility, and oil pipeline industries or should a separate standard be adopted for each industry?

(c) If standards are to remain industry specific, are the current form and composition of tariff requirements sufficient for each industry or is there a need for further standardization?

(d) What are the issues involved in standardizing the tariff format within industries and across industries? What would be the costs, administrative difficulties, and business impacts of achieving a common tariff structure? Are the benefits worth the costs?

(e) Would it be more efficient to standardize tariff structure at the same time that the requirements for electronically filing tariffs are developed or should these efforts be undertaken independently?

(f) Instead of requiring companies to physically restructure their tariffs, could the same benefits be achieved by including information (e.g. tags, links, or bookmarks) along with the tariff that will identify a standardized topic or topics addressed by particular sections? In concept, this would resemble an electronic index which would permit a user to identify all tariff sections associated with standardized topics.

3. Comments are requested on the electronic format to be used in making electronic tariff filings, and should address the following issues.

(a) What are the performance criteria that should be used in establishing the format?

(b) What type of format should be used (e.g., ASCII or XML tagged data)? If a tagged format is used, should tagging be used to identify tariff content elements, or should tagging be used only to identify tariff transmittal information? What data should be tagged (e.g., rates, services, etc.) and to what level of detail?

(c) What formats do jurisdictional entities currently use to create and maintain their tariffs and how easy would it be to change those formats to accommodate other possible formats, such as tagged file formats, like XML? What issues would a requirement to use XML pose for the regulated companies?

(d) To what extent, if any, should the formats differ for different types of filings, e.g., electric wholesale tariffs, as opposed to electric or gas transmission tariffs.

4. The obligation that tariff sheets be kept open and available for public inspection applies to each regulated firm in the gas, electric, and oil sectors. The Commission maintains a complete set of tariff sheets for public access and tracks the effectiveness status of each tariff sheet.

(a) Does an electronic tariff system present new issues in assuring that tariff provisions are on file and available for public inspection?

(b) How do the regulated industries keep track of the status of tariff provisions (e.g. effective, proposed, suspended, etc.) and how is this status presented to the public? Should a link to the authorizing Commission order be required on Web-based presentation systems to allow customers to verify the effectiveness status of individual tariff sections?

(c) If both the Commission and the regulated industries maintain separate systems for tariff presentation, how can these systems be synchronized?

(d) In the event that certain information is determined to be confidential and not available for public review, how should such information be filed electronically?

5. What procedure should be used to move to an electronic tariff? Should the Commission require all tariffs to be re-filed in a revised electronic format on a set compliance schedule? If so, what is a reasonable compliance schedule? Or, should the compliance obligation be triggered when a company makes its first tariff filing after implementation of the standards?

IV. Informational Conference

The Commission's staff will convene an informational conference on April 24, 2001 with interested members of the public and industry in order to demonstrate the use of its current electronic natural gas tariff system (FASTR) and an example of an XML tagged format. The informational conference will also provide a venue for questions, comments, and clarifications regarding the matters raised in this NOI.

V. Procedure for Comments

The Commission invites interested persons to submit comments, data, views, and other information concerning the matters set out in this notice.

To facilitate the Commission's review of the comments, commenters are requested to provide an executive summary of their position on the issues raised in the NOI. Commenters are requested to identify each specific question posed by the NOI that their discussion addresses and to use appropriate headings. Additional issues the commenters wish to raise should be identified separately. The commenters should double space their comments.

Comments may be filed on paper or electronically via the Internet and must be received by the Commission within 60 days after the staff technical conference. Those filing electronically do not need to make a paper filing. For paper filings, the original and 14 copies of such comments should be submitted to the Office of the Secretary, Federal Energy Regulatory Commission, 888 First Street, NE., Washington, DC 20426 and should refer to Docket No. RM01-5-000.

Comments filed via the Internet must be prepared in WordPerfect, MS Word, Portable Document Format, or ASCII format. To file the document, access the Commission's website at http://www.ferc.fed.us and click on “Make An E-Filing,” and then follow the instructions for each screen. First time users will have to establish a user name and password. The Commission will send an automatic acknowledgment to the sender's E-Mail address upon receipt of comments.

User assistance for electronic filing is available at 202-208-0258 or by E-Mail to efiling@ferc.fed.us. Comments should not be submitted to the E-Mail address. All comments will be placed in the Commission's public files and will be available for inspection in the Commission's Public Reference Room at 888 First Street, NE., Washington D.C. 20426, during regular business hours. Additionally, all comments may be viewed, printed, or downloaded remotely via the Internet through FERC's Homepage using the RIMS link. User assistance for RIMS is available at 202-208-2222, or by E-Mail to rimsmaster@ferc.fed.us.

VI. Document Availability

In addition to publishing the full text of this document in the Federal Register, the Commission provides all interested persons an opportunity to view and/or print the contents of this document via the Internet through the Commission's website (http://www.ferc.fed.us) and in FERC's Public Reference Room during normal business hours (8:30 a.m. to 5:00 p.m. Eastern time) at 888 First Street, NE., Room 2A, Washington, DC 20426.

From the Commission's website on the Internet, this information is available in both the Commission Issuance Posting System (CIPS) and the Records and Information Management System (RIMS).

• CIPS provides access to the texts of formal documents issued by the Commission since November 14, 1994.

• CIPS can be accessed using the CIPS link or the Energy Information Online icon. The full text of this document is available on CIPS in ASCII and WordPerfect 8.0 format for viewing, printing, and/or downloading.

• RIMS contains images of documents submitted to and issued by the Commission after November 16, 1981. Documents from November 1995 to the present can be viewed and printed from the Commission's website using the RIMS link or the Energy Information Online icon. Descriptions of documents back to November 16, 1981, are also available from RIMS-on-the-Web; requests for copies of these and other older documents should be submitted to the Public Reference Room.

User assistance is available for RIMS, CIPS, and the website during normal business hours from our Help line at (202) 208-2222 (E-Mail to WebMaster@ferc.fed.us) or the Public Reference at (202) 208-1371 (E-Mail to public.referenceroom@ferc.fed.us).

During normal business hours, documents can also be viewed and/or printed in the Commission's Public Reference Room, where RIMS, CIPS, and the Commission's website are available. User assistance is also available.

By direction of the Commission.
David P. Boergers,
Secretary.

Appendix A

Sample Electronic Tariff Filing

TF01003345111700Chandeleur Pipe Line Company

TF021 20Second Revised Volume No. 1

TF0351 100 5P158First Revised Sheet No. 51

TF04 Original Sheet No. 51

TF05C. D. Sorensen, Regulatory Specialist

TF06112000102700RM96-1-014 et al. 122000

TF079361093

GENERAL TERMS AND CONDITIONS

8.0 ACCOUNTING PROCEDURES (Cont'd)

8.4 Penalties (cont'd)

(a) Scheduling Penalties (cont'd)

(4) A scheduling penalty shall be accessed at any Receipt or Delivery Point where the month-end scheduling variance exceeds the tolerance of five (5) percent of the monthly nominations for that point.

(5) Should the month-end variance be due to Chandeleur's inability to receive or deliver gas at that point, then the scheduling penalty shall not be assessed.

(6) The scheduling penalty shall be the current Rate Schedule IT Usage Rate multiplied by the quantity of gas in excess of the allowed variance.

(7) Any scheduling penalty assessed by Chandeleur against an affiliate will be flowed through to its firm Shippers. The penalties flowed through to firm Shippers will be apportioned on the basis of the firm Shippers' weighted contract demand, during the applicable penalty period.

(b) Imbalance Management Service

(1) A pipeline imbalance is where Chandeleur over or under delivers Shipper's actual receipts versus deliveries during any calendar month. Shippers can find their pipeline imbalance in their monthly Gas Balance Statement showing monthly and cumulative imbalances. Chandeleur will post on its website monthly pipeline imbalances along with Shippers' cumulative imbalances to facilitate Shippers correcting their imbalances by offsetting with other Shipper's imbalances.

(2) Two six (6) month balancing periods are defined as November 1 through April 30 and May 1 through October 31.

TF0352 200 5P158Second Revised Sheet No. 52

TF04 First Revised Sheet No. 52

TF05C. D. Sorensen, Regulatory Specialist

TF06112000102700RM96-1-014 et al. 122000

TF079361093

GENERAL TERMS AND CONDITIONS

8.0 ACCOUNTING PROCEDURES (Cont'd)

8.4 Imbalance Management Services (cont'd)

(b) Imbalance Management Service (cont'd)

(3) At the end of each six (6) month balancing period, Chandeleur will notify each Shipper whose pipeline imbalance exceeds the tolerance of either 2% of the Shipper's total receipts or 10,000 Dth. The Shipper will then have 45 days, from the date of the notification mailed by Chandeleur, in which to correct its imbalance. Shippers or their Agents may net their imbalance against any other Transportation Agreements on any Rate Schedule they have with Chandeleur and/or trade their imbalances against any Transportation Agreements on any Rate Schedule that other Shippers may have with Chandeleur without any limitation.

(4) Should Shipper not correct its imbalance within the 45-day grace period, Chandeleur shall arrange for offsetting contract imbalance by first netting against Shipper's other Transportation Agreements on any Rate Schedule with Chandeleur and then, if necessary, trading against other Shipper's Transportation Agreements on any Rate Schedule. Shipper will be obligated to settle per the pre-arranged contract imbalance offset.

(5) The 45-day grace period shall be extended by the number of days, if any, that Chandeleur is unable to receive or deliver all nominated volumes of gas.

(6) Upon correction of the imbalance, Chandeleur will reduce Shipper's imbalance by the net pipeline imbalance. Any imbalance remaining after correction will be rolled forward into the next six (6) month balancing period.

[FR Doc. 01-6869 Filed 3-19-01; 8:45 am]

BILLING CODE 6717-01-P